ENVIRONMENTAL PROTECTION AGENCY

[ER-FRL-6656-4]

Environmental Impact Statements; Notice of Availability

Responsible Agency: Office of Federal Activities, General Information (202) 564-7167 or http://www.epa.gov/compliance/nepa/.

Weekly receipt of Environmental Impact Statements.

Filed September 27, 2004, through October 1, 2004,

Pursuant to 40 CFR 1506.9.

EIS No. 040460, Draft EIS, COE, AZ, Santa Cruz River Paseco de las Iglesias Feasibility Study, To Identify, Define and Solve Environmental Degradation, Flooding and Water Resource Problem, City of Tucson, Pima county, AZ, Comment Period Ends: November 22, 2004, Contact: Michael J. Fink (602) 640-2001.

EIS No. 040461, Final EIS, FHW, NC, US-17 Interstate Corridor Improvements, south of NC-1127 (Possum Track Road) to north of NC-1418 (Roberson Road) Funding and Permit Issuance, City of Washington and Town of Chocowinity Vicinity, Beaufort and Pitt Counties, NC, Wait Period Ends: November 8, 2004, Contact: John F. Sullivan (919) 856-4346.

EIS No. 040462, Draft EIS, AFS, WY, Cottonwood II Vegetation Management Project, Proposal to Implement Vegetation Management in the North and South Cottonwood Creek Drainages, Bridger-Teton National Forest, Big Piney Ranger District, Sublette County, WY, Comment Period Ends: November 22, 2004, Contact: Greg Clark (307) 276-3375.

EIS No. 040463, Final EIS, COE, MS, IA, MO, IL, MN, WI, PROGRAMMATIC EIS—Upper Mississippi River and Illinois Waterway System Navigation Feasibility Study (UMR-IWW), Addressing Navigation Improvement Planning and Ecological Restoration Needs, MS, IL, IA, MN, MO, WI, Wait Period Ends: November 8, 2004, Contact: Denny Lunderberg (309) 794-5632.

EIS No. 040464, Final EIS, FHW, PA, City of Lebanon Bridge Over Norfolk Southern Railroad Tracks Construction Project, 12th Street to Lincoln Avenue, Funding, Lebanon County, PA, Wait Period Ends: November 8, 2004, Contact: James A. Cheatham (717) 221-3461.

EIS No. 040465, Draft EIS, NPS, AZ, Colorado River Management Plan, To Provide a Wilderness-Type River Experience for Visitors, General Management Plan, Grand Canyon National Park, Colorado River, Coconino County, AZ, Comment Period Ends: January 6, 2004, Contact: Rick Ernenwein (928) 779-6279. This document is available on the Internet at: http://www.nps.gov/grca/crmp/.

EIS No. 040466, Draft Supplement, AFS, UT, Table Top Exploratory Oil and Gas Wells, New Information from the Approval 1994 Final EIS, Wasatch-Cache National Forest, Evanston Ranger District, Summit County, UT, Comment Period Ends: November 22, 2004, Contact: Roger Kesterson (307) 782-6555.

EIS No. 040467, Draft EIS, COE, NB, Cornhusker Army Ammunition Plant (CHAAP) Land Disposal Industrial Tracts, Proposed Disposal and Reuse of Tracts 32, 33, 34, 35, 36, 47, 61, 62, Hall County, NE, Comment Period Ends: November 22, 2004, Contact: Randal P. Sellers (402) 221-3054.

EIS No. 040468, Draft EIS, AFS, ID, Meadows Slope Wildland Fire Protection Project, Proposes to Create and Maintains Fuelbreak of Reduced Crown Fire Hazard, Payette National Forest, New Meadows Rangers District, Adams and Valley Counties, ID, Comment Period Ends: November 22, 2004, Contact: Kimberly Branded (208) 347-0300.

EIS No. 040469, Final EIS, COE, ID, Emerald Creek Garnet Project, Proposal to Mine Garnet Reserves within the St. Maries River Floodplain near Fernwood, Walla Walla District, Issuance of Several Permits, Benewah and Shoshone Counties, ID, Wait Period Ends: November 8, 2004, Contact: Barbara Benge (509) 527-7153.

EIS No. 040470, Draft EIS, FRC, CA, Stanislaus Rivers Projects, Relicensing of Hydroelectric Projects: Spring Gap-Stanislaus FERC No. 2130; Beardsley/Donnells FERC No. 2005; Tulloch FERC No. 2067; and Donnells-Curtis Transmission Line FERC No. 2118, Ptolemy and Cadaver Counties, CA, Comment Period Ends: December 7, 2004, Contact: Susan O'Brien (202) 502-8449.

EIS No. 040471, Final EIS, DO, UT, Utah Lake Drainage Basin Water Delivery System (US), Construction and Operation, Bonneville Unit of the Central Utah Project (CUP), Utah, Salt Lake, Wasatch and Jab Counties, UT, Wait Period Ends: November 8, 2004, Contact: Reed R. Murray (801) 379-1237.

EIS No. 040472, Draft EIS, AFS, CO, Village at Wolf Creek Project, Application for Transportation and Utility Systems and Facilities, Proposed Development and Use of Roads and Utility Corridors Crossing, National Forest System Lands to Access 287.5 Acres of Private Property Land, Mineral County, CO, Comment Period Ends: November 22, 2004, Contact: Robert Dalrymple (719) 852-5941.

EIS No. 040473, Draft EIS, UAF, TX, Relocation of the C-5 Formal Training Unit from Altus Air Force Base, Oklahoma to Lackland Air Force Base, Bexar County, TX, Comment Period Ends: November 22, 2004, Contact: Lt. Col Dee Anderson (210) 671-2909.

EIS No. 040474, Final EIS, AFS, OR, 18 Fire Recovery Project, Salvaging Dead Trees, Reforesting 1,936 Acres with Ponderosa Pine Seedling and Closing/Decommissioning Roads, Deschutes National Forest, Bend/Fort Rock Ranger District, Deschutes County, OR, Wait Period Ends: November 8, 2004, Contact: Jim Schlaich Ext 4769 (541) 383-4725.

EIS No. 040475, Final EIS, FTA, NY, Fulton Street Transit Center, Construction and Operation, To Improve Access to and from Lower Manhattan to Serve 12 NYCT Subway Lines, Metropolitan Transportation Authority (MIA), MTA New York City Transit (NYCT), New York, NY, Wait Period Ends: November 8, 2004, Contact: Bernard Cohen (212) 668-1770.

EIS No. 40476, Final EIS, FHW, MT, US-2 Highway Corridor Improvement Project, Reconstruction between Havre to Fort Belknap to Replace the Aging US-2 Facility, U.S. Army COE Section 404 Permit, Hill and Blaine Counties, MT, Wait Period Ends: November 8, 2004, Contact: Dale Paulson Ext 239 (406) 449-5302.

Amended Notices

EIS No. 040377, Draft EIS, AFS, WY, Yates Petroleum Federal #1 Oil and Gas Lease, Application for Permit to Drill (APD), Medicine Bow-Routt National Forests and Thunder Basin National Grassland, Duck Creek, Campbell County, WY, Comment Period Ends: October 15, 2004, Contact: Liz Moncrief (307) 745-2456. Published FR-08-13-04—Review Period Reopened, From 09-27-2004 to 10-15-2004.

Dated: October 5, 2004.
Robert W. Hargrove,
Director, NEPA Compliance Division, Office of Federal Activities.

[FR Doc. 04-22668 Filed 10-7-04; 8:45 am]

BILLING CODE 6560-50-P